DEPARTMENT OF TRANSPORTATION

Federal Aviation Administration

Notice of Opportunity for Public Comment on Surplus Property Release at Manchester-Boston Regional Airport in Manchester, NH

AGENCY: Federal Aviation Administration (FAA), DOT.

ACTION: Request for Public Comments.

SUMMARY: Under the provisions of Title 49, U.S.C. Section 47153(d), notice is being given that the FAA is considering a request from Manchester-Boston Regional Airport in Manchester, NH to waive the surplus property requirements for approximately 19 acres of airport property located at Manchester-Boston Regional Airport in Manchester, NH. The subject parcels have been used for non-aeronautical purposes for over 30 years under temporary relief of surplus property requirements. It has been determined through study and master planning that the subject parcels will not be needed for aeronautical purposes as they are not contiguous to the airport proper. Full and permanent relief of the surplus property requirements on these specific parcels will allow the airport and its tenants on these parcels to make the necessary and aviation-compatible improvements to the parcels. All revenues through the leasing of the parcels will continue to be subject to the FAAs revenue-use policy and dedicated to the maintenance and operation of the Manchester-Boston Regional Airport.

DATES: Comments must be received on or before March 8, 2013.

ADDRESSES: Send comments on this document to Mr. Barry J. Hammer at the Federal Aviation Administration, 12 New England Executive Park, Burlington, Massachusetts 01803, Telephone 781-238-7625.

FOR FURTHER INFORMATION CONTACT: Documents are available for review by appointment by contacting Mr. David Bush, Telephone 603-624-6539 or by contacting Mr. Barry J. Hammer, Federal Aviation Administration, 16 New England Executive Park, Burlington, Massachusetts, Telephone 781-238-7625.

Issued in Burlington, Massachusetts on January 29, 2013.
Mary T. Walsh,
Manager, Airports Division, New England Region.

[FR Doc. 2013-02599 Filed 2-5-13; 8:45 am]

BILLING CODE P